ENVIRONMENTAL PROTECTION AGENCY

[EPA-R05-OAR-2014-0280; FRL-10013-84-Region 5]

Clean Air Act Operating Permit Program; Notice of Issuance of Title V Federal Operating Permit to Veolia ES Technical Solutions, LLC

AGENCY: Environmental Protection Agency (EPA).

ACTION: Notice of final action.

SUMMARY: This notice announces that the Environmental Protection Agency issued a final permit decision under Title V of the Clean Air Act (CAA) to Veolia ES Technical Solutions, LLC (Veolia) for the operation of Veolia's Sauget, Illinois, hazardous waste treatment, storage and disposal facility.

DATES: EPA issued Title V Permit to Operate No. V-IL-1716300103-2014-10 to Veolia on June 17, 2019 under 40 CFR part 71. EPA issued the final permit decision as to the contested portions of this permit on August 10, 2020. Pursuant to section 307(b)(1) of the CAA, judicial review of EPA's final permit decision, to the extent it is available, may be sought by filing a petition for review in the United States Court of Appeals for the Seventh Circuit by October 27, 2020.

FOR FURTHER INFORMATION CONTACT: David Ogulei, Environmental Engineer, Air Permits Section, Air Programs Branch (AR-18J), Environmental Protection Agency, Region 5, 77 West Jackson Boulevard, Chicago, Illinois 60604, (312) 353-0987, Ogulei.david@epa.gov.

SUPPLEMENTARY INFORMATION: Throughout this document whenever “we,” “us,” or “our” is used, we mean EPA. This supplementary information section is arranged as follows:

I. How can I get copies of this document and other related information?

Docket. EPA has established a docket for this action under Docket ID No. EPA-R05-OAR-2014-0280. Publicly available docket materials are available either electronically through www.regulations.gov or in hard copy at the Environmental Protection Agency, Region 5, Air and Radiation Division, 77 West Jackson Boulevard, Chicago, Illinois 60604. This facility is open from 8:30 a.m. to 4:30 p.m., Monday through Friday, excluding Federal holidays and facility closures due to COVID 19. We recommend that you telephone David Ogulei, Environmental Engineer, at (312) 353-0987 before visiting the Region 5 office.

II. What is the background information?

The 1990 amendments to the CAA established a comprehensive air quality permit program under the authority of Title V of the CAA. Title V requires certain facilities that emit large amounts of air pollution, or that meet other specified criteria, to obtain an operating permit, known as a Title V permit, after the source has begun to operate. This permit is an enforceable compilation of all enforceable terms, conditions and limitations that are applicable to the source and is designed to improve compliance by clarifying what facilities must do to control air pollution. EPA regulations implementing Title V are codified at 40 CFR part 71 for permits issued by EPA or its delegatees and at 40 CFR part 70 for permits issued by states and local agencies pursuant to approved programs. A Title V permit is valid for no more than five years and may be renewed in five-year term increments.

EPA issued the initial Title V permit to Veolia on September 12, 2008 pursuant to 40 CFR part 71. Veolia operates a hazardous waste treatment, storage and disposal facility in Sauget, Illinois. At the facility, containers and bulk shipments of hazardous and solid wastes are received, analyzed and transferred to temporary storage facilities, processed and incinerated in one of three combustion units.

On June 17, 2019, EPA renewed Veolia's Title V permit for a new five-year term. See Title V Permit to Operate No. V-IL-1716300103-2014-10, Docket ID. EPAR05OAR2014-0280 to Veolia on June 17, 2019 under 40 CFR part 71. By its own terms, and consistent with 40 CFR 71.11(i)(2), most provisions of the renewal permit became effective on July 18, 2019.

On July 17, 2019, the American Bottom Conservancy petitioned the EPA's Environmental Appeals Board (EAB) to review certain terms and conditions of the June 2019 Title V permit. Consequently, consistent with 40 CFR 71.11(i)(2)(ii), the effective date of the contested terms and conditions of the permit was delayed. On July 21, 2020, the EAB denied the petition for review. See In re Veolia ES Technical Solutions, L.L.C., CAA Appeal No. 19-01 (EAB, July 21, 2020), 18 E.A.D. (Order Denying Review).

Following the EAB's action, pursuant to 40 CFR 71.11(l)(5)(i), EPA issued a final permit decision as to the contested portions of the permit on August 10, 2020. All contested conditions of Title V Permit No. V-IL-1716300103-2014-10, as issued by EPA on June 17, 2019, were therefore final and effective as of August 10, 2020. Except as provided in the permit, the final Title V permit will expire on July 18, 2024.

Authority: 42 U.S.C. 7401 et seq.

Dated: August 24, 2020.
Kurt Thiede,
Regional Administrator, Region 5.

[FR Doc. 2020-18956 Filed 8-27-20; 8:45 am]

BILLING CODE 6560-50-P